DEPARTMENT OF ENERGY

Federal Energy Regulatory Commission

[Docket No. AC10-146-000]

Delaware Pipeline Company LLC; Notice of Filing

August 13, 2010.

Take notice that on July 13, 2010, Delaware Pipeline Company LLC (DPC) submitted a request for waiver of the requirement to file the FERC Form No. 6-Q for the second quarter of 2010.

On June 1, 2010, DPC acquired oil pipeline assets associated with an idled refinery in Delaware City, Delaware from The Premcor Refining Group, Inc., a subsidiary of Valero Energy Corporation. For the thirty days in June 2010 during which the pipeline was under DPC's ownership, the pipeline was not in operation and DPC had no revenue. The pipeline is currently in standby mode while the refinery, which is the origin for products shipped on the pipeline, is shutdown for a complete turnaround until early next year, and the pipeline also undergoes checks of certain operational systems.

On July 1, 2010, Delaware Pipeline Company adopted the tariffs of The Premcor Pipeline Co. (“Premcor”) including FERC Nos. 2.0, 3.0 and 4.0 in their entirety. FERC Nos. 2.0.0, 3.0.0, and 4.0.0 implement a change in ownership effective June 1, 2010 of the pipeline facilities used to perform the services stated in the Premcor tariffs that are being adopted and brought forward under DPC's name. DPC is adopting these tariffs to reflect its purchase of the Premcor pipeline system associated with the Delaware City Refinery, located in New Castle County, Delaware, which originates at the Delaware City Refinery and extends to Sunoco Pipeline L.P.'s Twin Oaks Pump Station, located in Delaware County, Pennsylvania.

Since DPC had no operations during the 30-day period in June, it requests waiver of the quarter 2 6-Q reporting requirement of 18 CFR 357.4.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: August 31, 2010.

Kimberly D. Bose,
Secretary.

[FR Doc. 2010-20651 Filed 8-19-10; 8:45 am]

BILLING CODE 6717-01-P